Title 3—

The President

Proclamation 8062 of October 4, 2006

Fire Prevention Week, 2006

By the President of the United States of America

A Proclamation

During Fire Prevention Week, we underscore our commitment to advancing fire safety and awareness, and we honor the brave firefighters and volunteers who work to protect our lives, homes, and communities.

Thousands of injuries and deaths occur each year as a result of fires, and Americans have a shared responsibility to help minimize the risk of fires that can cause harm to people and property. By installing and maintaining smoke alarms and having a plan of action in the event of an emergency, citizens can practice simple but effective fire safety measures. Unattended cooking is a leading cause of household fires, and this year's theme, “Prevent Cooking Fires: Watch What You Heat,” highlights the importance of practicing kitchen safety at all times. By keeping cooking areas clear of flammable items and closely monitoring children and appliances while in the kitchen, individuals can greatly reduce the number of fire-related accidents in the home.

Our Nation's firefighters selflessly risk their lives to protect their fellow citizens. These brave men and women play a critical role in safeguarding our families, our households, and our communities, and their courage and dedication are an inspiration to all Americans. Fire Prevention Week is an opportunity to reaffirm the importance of fire safety, celebrate those who devote their lives to protecting others, and honor the memory of our Nation's fallen heroes.

NOW, THEREFORE, I, GEORGE W. BUSH, President of the United States of America, by virtue of the authority vested in me by the Constitution and laws of the United States, do hereby proclaim October 8 through October 14, 2006, as Fire Prevention Week. On Sunday, October 8, 2006, in accordance with Public Law 107-51, the flag of the United States will be flown at half-staff on all Federal office buildings in honor of the National Fallen Firefighters Memorial Service. I call on all Americans to participate in this observance through appropriate programs and activities and by renewing their efforts to prevent fires and their tragic consequences.

IN WITNESS WHEREOF, I have hereunto set my hand this fourth day of October, in the year of our Lord two thousand six, and of the Independence of the United States of America the two hundred and thirty-first.

[FR Doc. 06-8593

Filed 10-5-06; 11:07 am]

Billing code 3195-01-P